DEPARTMENT OF COMMERCE

Foreign-Trade Zones Board

[B-54-2013]

Foreign-Trade Zone 39—Dallas-Fort Worth, Texas; Authorization of Production Activity; Lasko Products, Inc. (Household Electric Fans); Fort Worth, Texas

On May 21, 2013, Lasko Products, Inc., submitted a notification of proposed production activity to the Foreign-Trade Zones (FTZ) Board for its facilities within FTZ 39—Sites 16, 17, and 18, in Fort Worth, Texas.

The notification was processed in accordance with the regulations of the FTZ Board (15 CFR part 400), including notice in the Federal Register inviting public comment (78 FR 33808-33809, 6-5-2013). The FTZ Board has determined that no further review of the activity is warranted at this time. The production activity described in the notification is authorized, subject to the FTZ Act and the Board's regulations, including Section 400.14.

Dated: September 30, 2013.
Andrew McGilvray,
Executive Secretary.

[FR Doc. 2013-24715 Filed 10-21-13; 8:45 am]

BILLING CODE 3510-DS-P